DEPARTMENT OF COMMERCE

International Trade Administration

A-570-892

Carbazole Violet Pigment 23 from the People's Republic of China: Preliminary Results and Partial Rescission of Antidumping Duty Administrative Review

AGENCY: Import Administration, International Trade Administration, Department of Commerce.

SUMMARY: The Department of Commerce (the Department) is conducting an administrative review of the antidumping duty order on carbazole violet pigment 23 (CVP 23) from the People's Republic of China (PRC). The period of review (POR) is December 1, 2006, through November 30, 2007. We preliminarily determine that 11 companies have failed to cooperate by not acting to the best of their ability to comply with our requests for information and, as a result, should be assigned a rate based on adverse facts available (AFA). We are also rescinding this administrative review with respect to three companies. If these preliminary results are adopted in our final results of this review, we will instruct U.S. Customs and Border Protection (CBP) to assess antidumping duties on all appropriate entries of subject merchandise during the POR.

Interested parties are invited to comment on these preliminary results. We will issue the final results no later than 120 days from the date of publication of this notice.

EFFECTIVE DATE: September 8, 2008.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION:

Background

On December 29, 2004, the Department published the antidumping duty order on CVP 23 from the PRC. See Antidumping Duty Order: Carbazole Violet Pigment 23 From the People's Republic of China, 69 FR 77987 (December 29, 2004). On December 3, 2007, the Department published Antidumping or Countervailing Duty Order, Finding, or Suspended Investigation; Opportunity To Request Administrative Review, 72 FR 67889 (December 3, 2007). On December 31, 2007, Nation Ford Chemical Company and Sun Chemical Corporation (collectively, petitioners) requested an administrative review of entries of subject merchandise made during the POR by 14 Chinese exporters, in accordance with 19 CFR 351.213(b)(1). The 14 exporters included in petitioners' request for review were: Aesthetic Colortech (Shanghai) Company, Limited (Aesthetic Colortech); Anhui Worldbest IE Company, Limited (Anhui Worldbest); Cidic Company, Limited (Cidic); Ganguink Company, Pigment Division (Ganguink); Goldlink Industries Company, Limited (Goldlink); Hunan Sunlogistics International Company, Limited (Hunan Sunlogistics); Hygeia-Chem (Shanghai) Company, Limited (Hygeia-Chem); Nantong Haidi Chemical Company, Limited (Nantong Chemical); Pudong Prime International Logistic Incorporated (Pudong Prime); Shanghai Rainbow Dyes Import and Export (Shanghai Rainbow); Sinocol Corporation, Limited (Sinocol); Tianjin Hanchem International Trading Company, Limited (Tianjin Hanchem); Trust Chem Company, Limited (Trust Chem); and Yangcheng Tiacheng Chemical Company, Limited (Yangcheng Chemical).

On January 28, 2008, the Department initiated an administrative review of these 14 companies. See Initiation of Antidumping and Countervailing Duty Administrative Reviews and Request for Revocation in Part, 73 FR 4829 (January 28, 2008). On February 1, 2008, the Department issued a letter to interested parties announcing its intention to limit the number of respondents selected for review and to select respondents based on CBP data for U.S. imports of CVP 23 during the POR. On February 4, 2008, the Department requested that petitioners submit addresses for each of the companies included in their request for review; petitioners provided address information to the Department on that same date. On February 5, 2008, the Department released the letter regarding its respondent-selection methodology and the CBP import data to the 14 Chinese exporters and extended the deadline for parties to submit comments until February 12, 2008. For information related to the delivery of these letters, see the memorandum entitled “Carbazole Violet Pigment 23 from the People's Republic of China: Delivery of Various Documents to Respondents in the 2006-2007 Administrative Review,” dated August 27, 2008 (Delivery Tracking Memorandum) at Attachment 1. No interested parties submitted comments to the Department.

On February 25, 2008, because it was not feasible to examine all 14 exporters of the subject merchandise, for purposes of this administrative review, the Department selected the largest company by export volume, Goldlink, as a mandatory respondent in accordance with section 777A(c)(2) of the Tariff Act of 1930, as amended (the Act). See Memorandum from Blanche Ziv to Wendy J. Frankel, “2006-2007 Antidumping Duty Administrative Review of Carbazole Violet Pigment 23 from the People's Republic of China: Selection of Respondents,” dated February 25, 2008. On February 26, 2008, the Department issued an antidumping questionnaire to Goldlink. For information regarding the delivery of this questionnaire, see the Delivery Tracking Memorandum at Attachment 2. Goldlink did not respond to the Department's questionnaire.

On March 3, 2008, the Department sent separate rate applications/certifications to the following 12 Chinese exporters of CVP 23: Aesthetic Colortech; Anhui Worldbest; Cidic; Ganguink; Goldlink; Hunan Sunlogistics; Nantong Chemical; Pudong Prime; Shanghai Rainbow; Sinocol; Tianjin Hanchem; and Trust Chem. On March 4, 2008, the Department sent separate rates applications/certifications to Hygeia-Chem and Yangcheng Chemical after petitioners provided more accurate addresses for these two exporters. For information regarding the delivery of the separate rate applications/certifications, see the Delivery Tracking Memorandum at Attachment 3. The Department did not receive a response to the separate rate application/certification from any of the 14 companies.

On April 18, 2008, the Department sent a second letter to each of the four companies that had been assigned a separate rate in a prior segment of this proceeding, namely, Goldlink, Nantong Chemical, Tianjin Hanchem, and Trust Chem. For information regarding the delivery of these letters, see the Delivery Tracking Memorandum at Attachment 4. In its letter to Goldlink, the Department stated that since Goldlink did not respond to the antidumping questionnaire, the Department may resort to the use of facts available with an adverse inference. The Department further stated that because Goldlink did not submit its response by the Department's deadline, Goldlink may not be eligible to receive a separate rate in this proceeding and thus would be considered part of the PRC entity and assigned the PRC-wide rate. The Department granted Goldlink until April 28, 2008, to provide an explanation as to why it did not submit a response to the questionnaire, and stated the Department would determine at that time whether an extension was warranted for Goldlink to submit its questionnaire response. In its April 18, 2008, letters to Nantong Chemical, Tianjin Hanchem, and Trust Chem, the Department declared that as each company did not provide a response to the Department's separate rate certification, these companies may not be eligible to receive a separate rate in this proceeding and thus would be considered part of the PRC entity and assigned the PRC-wide rate. The Department granted Nantong Chemical, Tianjin Hanchem, and Trust Chem until April 28, 2008, to provide an explanation as to why they were unable to submit a separate rate certification, and stated the Department would determine at that time whether an extension was warranted for each company to submit a separate rate certification. None of the four companies responded to the Department's April 18, 2008, letters by the established deadline.

On April 29, 2008, Tianjin Hanchem submitted a letter stating it did not make any sales or exports during the POR, and explaining it did not respond to the Department's separate rate application/certification letter because it was not aware it needed to respond when it had no shipments to the United States. On May 7, 2008, Trust Chem filed a letter stating it had no shipments and no sales of CVP 23 during the POR.

On July 17, 2008, the Department sent another separate rate application/certification to one company, Ganguink, because the Department found the separate rate application/certification sent to this company on March 3, 2008, had not been delivered. For information related to the delivery of this document, see the Delivery Tracking Memorandum at Attachment 5. The Department did not receive a response from Ganguink.

Period of Review

The POR is December December 1, 2006, through November 30, 2007.

Scope of the Order

The merchandise covered by this order is carbazole violet pigment 23 identified as Color Index No. 51319 and Chemical Abstract No. 6358-30-1, with the chemical name of diindolo [3,2-b:3',2'-m] triphenodioxazine, 8,18-dichloro-5, 15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of this order is dispositive.

¹ The bracketed section of the product description, [3,2-b:3',2'-m], is not business proprietary information, but is part of the chemical nomenclature.

Partial Rescission of Administrative Review

Section 351.213(d)(1) of the Department's regulations provides that the Department will rescind an administrative review if the party that requested the review withdraws its request for review within 90 days of the date of publication of the notice of initiation of the requested review, or withdraws at a later date if the Department determines it is reasonable to extend the time limit for withdrawing the request.

In this case, the 90-day deadline to withdraw requests for an administrative review fell on April 28, 2008. However, on April 25, 2008, petitioners requested that the Department extend this deadline by ten days. Consequently, on April 28, 2008, the Department granted petitioners' request and extended the deadline until May 8, 2008. On May 8, 2008, petitioners submitted a letter withdrawing their request for an administrative review of Nantong Chemical, Tianjin Hanchem, and Trust Chem.

Thus, the petitioners timely withdrew their requests for an administrative review of Nantong Chemical, Tianjin Hanchem, and Trust Chem within the extended deadline. Because the petitioners were the only party to request administrative review of each of these companies, we are rescinding this administrative review with respect to Nantong Chemical, Tianjin Hanchem, and Trust Chem. Each of these three companies has a separate rate, and we will issue liquidation instructions for these companies' entries 15 days after publication of this notice.

Non-Market Economy Country Status

In every case conducted by the Department involving the PRC, the PRC has been treated as a non-market economy (NME) country. See, e.g., Polyethylene Retail Carrier Bags from the People's Republic of China: Preliminary Results of Antidumping Duty Administrative Review and Partial Rescission of Review, 72 FR 51588, 51590 (September 10, 2007), unchanged in Polyethylene Retail Carrier Bags from the People's Republic of China: Final Results of Antidumping Duty Administrative Review and Partial Rescission of Review, 73 FR 14216 (March 17, 2008). Pursuant to section 771(18)(C)(i) of the Act, any determination that a foreign country is an NME country shall remain in effect until revoked by the administering authority. See, e.g., Carbazole Violet Pigment 23 From the People's Republic of China: Preliminary Results of Antidumping Duty Administrative Review and Rescission in Part, 71 FR 65073, 65074 (November 7, 2006) unchanged in Carbazole Violet Pigment 23 from the People's Republic of China: Final Results of Antidumping Duty Administrative Review, 72 FR 26589 (May 10, 2007). None of the parties to this proceeding have contested such treatment.

Separate Rates

In proceedings involving NME countries, the Department begins with a rebuttable presumption that all companies within the country are subject to government control and, thus, should be assigned a single antidumping duty deposit rate. It is the Department's policy to assign all exporters of merchandise in an NME country subject to review this single rate unless an exporter can demonstrate it is sufficiently independent so as to be entitled to a separate rate. To establish whether a company is sufficiently independent from government control of its export activities to be entitled to a separate company-specific rate, the Department analyzes each entity exporting the subject merchandise under a test arising from Final Determination of Sales at Less Than Fair Value: Sparklers From the People's Republic of China, 56 FR 20588 at Comment 1 (May 6, 1991), as amplified by Notice of Final Determination of Sales at Less Than Fair Value: Silicon Carbide from the People's Republic of China, 59 FR 22585, 22586-7 (May 2, 1994). The Department assigns separate rates in NME cases only if respondents can affirmatively demonstrate the absence of both de jure and de facto government control over export activities. The Department has preliminarily determined that none of the 11 respondents remaining in this administrative review qualify for a separate rate. For more information, see “The PRC-Wide Entity” section below.

The PRC-Wide Entity

Based on a timely request by petitioners, the Department originally initiated this administrative review with respect to 14 companies. As noted above, petitioners timely withdrew their request for review of three of these companies. Of the 11 companies remaining in this review, none of them responded to the Department's separate rate application/certification, including the mandatory respondent in this review, Goldlink, which also did not respond to the Department's antidumping questionnaire. See “Background” section above. Thus, Aesthetic Colortech, Anhui Worldbest, Cidic, Ganguink, Goldlink, Hunan Sunlogistics, Hygeia-Chem, Pudong Prime, Shanghai Rainbow, Sinocol, and Yangcheng Chemical have not demonstrated the lack of both de jure and de facto government control over export activities. Therefore, we have preliminarily determined that none of these 11 exporters have demonstrated their eligibility for separate-rate status. As a result, the Department is treating these 11 companies as part of the PRC-wide entity. Because we have determined Aesthetic Colortech, Anhui Worldbest, Cidic, Ganguink, Goldlink, Hunan Sunlogistics, Hygeia-Chem, Pudong Prime, Shanghai Rainbow, Sinocol, and Yangcheng Chemical are part of the PRC-wide entity, the PRC-wide entity is now under review.

Application of Facts Available

Section 776(a)(1) of the Act mandates that the Department use the facts available if necessary information is not available on the record of an antidumping proceeding. In addition, section 776(a)(2) of the Act provides that if an interested party or any other person: (A) withholds information that has been requested by the administering authority; (B) fails to provide such information by the deadlines for the submission of the information or in the form and manner requested, subject to subsections (c)(1) and (e) of section 782 of the Act; (C) significantly impedes a proceeding under this title; or (D) provides such information but the information cannot be verified as provided in section 782(i) of the Act, the Department shall, subject to section 782(d) of the Act, use the facts otherwise available in reaching the applicable determination under this title.

Where the Department determines that a response to a request for information does not comply with the request, section 782(d) of the Act provides that the Department shall promptly inform the party submitting the response of the nature of the deficiency and shall, to the extent practicable, provide that party with an opportunity to remedy or explain the deficiency. Section 782(d) of the Act additionally states that if the party submits further information that is unsatisfactory or untimely, the administering authority may, subject to subsection (e), disregard all or part of the original and subsequent responses. Section 782(e) of the Act provides that the Department shall not decline to consider information that is submitted by an interested party and is necessary to the determination but does not meet all the applicable requirements established by the administering authority if: (1) the information is submitted by the deadline established for its submission; (2) the information can be verified; (3) the information is not so incomplete that it cannot serve as a reliable basis for reaching the applicable determination; (4) the interested party has demonstrated that it acted to the best of its ability in providing the information and meeting the requirements established by the administering authority with respect to the information; and (5) the information can be used without undue difficulties.

The Department finds that the PRC-wide entity (including Aesthetic Colortech, Anhui Worldbest, Cidic, Ganguink, Goldlink, Hunan Sunlogistics, Hygeia-Chem, Pudong Prime, Shanghai Rainbow, Sinocol, and Yangcheng Chemical) did not respond to our requests for information and that necessary information is not available on the record. Therefore, we have preliminarily determined that the use of facts otherwise available is warranted for the PRC-wide entity under sections 776(a)(1) and (2) of the Act.

As stated above in the “Background” section, on February 25, 2008, the Department selected Goldlink, the largest exporter of subject merchandise by volume, as a mandatory respondent. On February 26, 2008, the Department sent an antidumping questionnaire to Goldlink. On March 3, 2008, the Department also sent a separate rate application/certification to Goldlink. Goldlink did not respond to the questionnaire or the separate rate application/certification. On April 18, 2008, the Department sent a letter to Goldlink stating that since it did not respond to the antidumping questionnaire, the Department may resort to the use of facts available with an adverse inference. The Department also informed Goldlink that because it did not submit its response by the Department's deadline, Goldlink may not be eligible to receive a separate rate in this proceeding and thus would be considered part of the PRC entity and assigned the PRC-wide rate. In its April 18, 2008, letter, the Department granted Goldlink until April 28, 2008, to provide an explanation as to why it did not submit a response to the questionnaire and stated it would determine at that time whether an extension was warranted for Goldlink to submit its questionnaire response. Goldlink did not respond to the Department's April 18, 2008, letter. The Department has no information on the record for Goldlink with which to calculate a dumping margin or determine if it is eligible for a separate rate in this proceeding, and hence we preliminarily find that Goldlink has significantly impeded the proceeding by withholding information and failing to respond to the Department's request for information within the specified deadlines. Therefore, pursuant to sections 776(a)(1) and 776(a)(2)(A),(B), and (C) of the Act, the Department preliminarily determines that the application of facts available is appropriate. Because Goldlink did not respond to the Department's requests for information, sections 782(d) and (e) of the Act are not applicable.

Application of Adverse Facts Available

Section 776(b) of the Act provides that the Department may use an adverse inference in applying the facts otherwise available when a party has failed to cooperate by not acting to the best of its ability to comply with a request for information. Section 776(b) of the Act also authorizes the Department to use as AFA information derived from the petition, the final determination, a previous administrative review, or other information placed on the record.

Pursuant to section 776(b) of the Act, we find the PRC-wide entity, which includes Goldlink and the other companies remaining under review that did not provide separate rate applications or certifications (Aesthetic Colortech, Anhui Worldbest, Cidic, Ganguink, Hunan Sunlogistics, Hygeia-Chem, Pudong Prime, Shanghai Rainbow, Sinocol, and Yangcheng Chemical), failed to cooperate by not acting to the best of its ability. As noted above, the PRC-wide entity did not provide the requested information. This information was in the sole possession of the respondents, and could not be obtained otherwise. Thus, because the PRC-wide entity refused to participate fully in this proceeding, we preliminarily determine that in selecting from among the facts otherwise available, an adverse inference is warranted for the PRC-wide entity pursuant to section 776(b) of the Act. By using an inference that is adverse to the interests of the PRC-wide entity, we ensure the companies that are part of the PRC-wide entity will not obtain a more favorable result by failing to cooperate than had they cooperated fully in this review.

Selection of Adverse Facts Available Rate

In deciding which facts to use as AFA, section 776(b) of the Act and 19 CFR 351.308(c) authorize the Department to rely on information derived from: (1) the petition; (2) a final determination in the investigation; (3) any previous review or determination; or (4) any information placed on the record. In reviews, the Department normally selects, as AFA, the highest rate on the record of any segment of the proceeding. See, e.g., Freshwater Crawfish Tail Meat from the People's Republic of China; Notice of Final Results of Antidumping Duty Administrative Review, 68 FR 19504, 19506 (April 21, 2003). The U.S. Court of International Trade (CIT) and the Court of Appeals for the Federal Circuit have consistently upheld the Department's practice in this regard. See Rhone Poulenc, Inc. v. United States, 899 F.2d 1185, 1190 (Fed. Circ. 1990) (Rhone Poulenc); NSK Ltd. v. United States, 346 F. Supp. 2d 1312, 1335 (CIT 2004) (upholding a 73.55 percent total AFA rate, the highest available dumping margin from a different respondent in a less-than-fair-value investigation); see also Kompass Food Trading Int'l v. United States, 24 CIT 678, 683-84 (2000) (upholding a 51.16 percent total AFA rate, the highest available dumping margin from a different, fully cooperative respondent); and Shanghai Taoen International Trading Co., Ltd. v. United States, 360 F. Supp. 2d 1339, 1348 (CIT 2005) (upholding a 223.01 percent total AFA rate, the highest available dumping margin from a different respondent in a previous administrative review).

The Department's practice when selecting an adverse rate from among the possible sources of information is to ensure that the margin is “sufficiently adverse so as to effectuate the statutory purposes of the adverse facts available rule to induce respondents to provide the Department with complete and accurate information in a timely manner.” See Notice of Final Determination of Sales at Less Than Fair Value: Static Random Access Memory Semiconductors from Taiwan, 63 FR 8909, 8932 (February 23, 1998). The Department's practice also ensures “that the party does not obtain a more favorable result by failing to cooperate than if it had cooperated fully.” See Statement of Administrative Action accompanying the Uruguay Round Agreements Act, H.R. Doc. No. 103-316, vol. 1 (1994) (SAA) at 870; see also Notice of Final Determination of Sales at Less than Fair Value: Certain Frozen and Canned Warmwater Shrimp From Brazil, 69 FR 76910, 76912 (December 23, 2004). In choosing the appropriate balance between providing respondents with an incentive to respond accurately and imposing a rate that is reasonably related to the respondent's prior commercial activity, selecting the highest prior margin “reflects a common sense inference that the highest prior margin is the most probative evidence of current margins, because, if it were not so, the importer, knowing of the rule, would have produced current information showing the margin to be less.” See Rhone Poulenc, 899 F.2d at 1190.

Consistent with the statute, court precedent, and its normal practice, the Department has preliminarily assigned the rate of 241.32 percent, the highest rate determined in any segment of this proceeding, to the PRC-wide entity, which includes Aesthetic Colortech, Anhui Worldbest, Cidic, Ganguink, Goldlink, Hunan Sunlogistics, Hygeia-Chem, Pudong Prime, Shanghai Rainbow, Sinocol, and Yangcheng Chemical, as AFA. See Final Results of Redetermination Pursuant to United States Court of International Trade Remand Order, Goldlink Industries Co., Ltd. v. United States, 431 F. Supp. 2d 1323 (CIT May 4, 2006), affirmed by the CIT on December 8, 2006 (CVP 23 from the PRC - Remand on Final Determination); see also Carbazole Violet Pigment 23 from the People's Republic of China: Notice of Amended Final Determination in Accordance with Court Decision, 72 FR 15101 (March 30, 2007) (CVP 23 from the PRC - Amended Final Determination). As discussed further below, this rate has been corroborated.

Corroboration of Secondary Information Used as Adverse Facts Available

Section 776(c) of the Act provides that, where the Department selects from among the facts otherwise available and relies on “secondary information,” the Department shall, to the extent practicable, corroborate that information from independent sources reasonably at the Department's disposal. Secondary information is described in the SAA as “{i}nformation derived from the petition that gave rise to the investigation or review, the final determination covering the subject merchandise, or any previous review under section 751 concerning the subject merchandise.” See SAA at 870. The SAA states that “corroborate” means to determine that the information used has probative value. Id. The Department has determined that to have probative value, information must be reliable and relevant. See Tapered Roller Bearings and Parts Thereof, Finished and Unfinished, From Japan, and Tapered Roller Bearings Four Inches or Less in Outside Diameter, and Components Thereof, from Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997). The SAA also states that independent sources used to corroborate such evidence may include, for example, published price lists, official import statistics and customs data, and information obtained from interested parties during the particular investigation or review. See SAA at 870; see also Notice of Preliminary Determination of Sales at Less Than Fair Value: High and Ultra-High Voltage Ceramic Station Post Insulators from Japan, 68 FR 35627 (June 16, 2003), unchanged in Notice of Final Determination of Sales at Less Than Fair Value: High and Ultra-High Voltage Ceramic Station Post Insulators from Japan, 68 FR 62560 (November 5, 2003); and Notice of Final Determination of Sales at Less Than Fair Value: Live Swine From Canada, 70 FR 12181, 12183 (March 11, 2005).

To be considered corroborated, information must be found to be both reliable and relevant. Unlike other types of information, such as input costs or selling expenses, there are no independent sources for calculated dumping margins. The only sources for calculated margins are administrative determinations. The AFA rate we are applying for the current review was calculated pursuant to a remand order from the CIT with respect to the original investigation of CVP 23 from the PRC. See CVP 23 from the PRC - Remand on Final Determination and CVP 23 from the PRC - Amended Final Determination. Furthermore, no information has been presented in the current review that calls into question the reliability of this information. Thus, the Department finds that the information is reliable.

With respect to the relevance aspect of corroboration, the Department will consider information reasonably at its disposal to determine whether a margin continues to have relevance. Where circumstances indicate the selected margin is not appropriate as AFA, the Department will disregard the margin and determine an appropriate margin. See, e.g., Fresh Cut Flowers from Mexico: Final Results of Antidumping Administrative Review, 61 FR 6812, 6814 (February 22, 1996). Similarly, the Department does not apply a margin that has been discredited. See D & L Supply Co. v. United States, 113 F. 3d 1220, 1221 (Fed. Cir. 1997) (the Department will not use a margin that has been judicially invalidated.) The AFA rate we are applying for the instant review was calculated based on export price information from the petition, as well as on production data of a respondent in the investigation and the most appropriate surrogate value information available to the Department. Furthermore, the calculation of this margin was subject to comment from interested parties in the proceeding. See CVP 23 from the PRC - Remand on Final Determination and CVP 23 from the PRC - Amended Final Determination. Moreover, as there is no information on the record of this review that demonstrates this rate is not appropriately used as AFA, we determine this rate has relevance.

As the AFA rate is both reliable and relevant, we find it has probative value. As a result, the Department preliminarily determines that the AFA margin (i.e., the PRC-wide rate from CVP 23 from the PRC - Remand on Final Determination and CVP 23 from the PRC - Amended Final Determination) is corroborated for the purposes of this administrative review and may reasonably be applied to the PRC-wide entity, which includes Aesthetic Colortech, Anhui Worldbest, Cidic, Ganguink, Goldlink, Hunan Sunlogistics, Hygeia-Chem, Pudong Prime, Shanghai Rainbow, Sinocol, and Yangcheng Chemical. Because these are the preliminary results of review, the Department will consider all margins on the record at the time of the final results of review for the purpose of determining the most appropriate final margin for Aesthetic Colortech, Anhui Worldbest, Cidic, Ganguink, Goldlink, Hunan Sunlogistics, Hygeia-Chem, Pudong Prime, Shanghai Rainbow, Sinocol, and Yangcheng Chemical. See Notice of Preliminary Determination of Sales at Less Than Fair Value: Solid Fertilizer Grade Ammonium Nitrate From the Russian Federation, 65 FR 1139 (January 7, 2000), unchanged in Notice of Final Determination of Sales at Less Than Fair Value; Solid Fertilizer Grade Ammonium Nitrate from the Russian Federation, 65 FR 42669 (July 11, 2000).

Preliminary Results of Review

We preliminarily determine that the following antidumping duty margins exist for the period December 1, 2006, through November 30, 2007:

Exporter/Manufacturer | Margin (percent)
PRC-Wide Rate (including Aesthetic Colortech, Anhui Worldbest, Cidic, Ganguink, Goldlink, Hunan Sunlogistics, Hygeia-Chem, Pudong Prime, Shanghai Rainbow, Sinocol, and Yangcheng Chemical) | 241.32

Schedule for Final Results of Review

Interested parties may submit case briefs no later than 30 days after the date of publication of these preliminary results of review. See 19 CFR 351.309(c)(1)(ii). Rebuttal briefs, limited to issues raised in the case briefs, may be filed no later than five days after the time limit for filing the case briefs. See 19 CFR 351.309(d). Parties who submit case or rebuttal briefs in this proceeding are requested to submit with each argument (1) a statement of the issue and (2) a brief summary of the argument. Parties are also encouraged to provide a summary of the arguments not to exceed five pages and a table of statutes, regulations, and cases cited.

Interested parties who wish to request a hearing or to participate if one is requested must submit a written request to the Assistant Secretary for Import Administration within 30 days of publication of these preliminary results. See 19 CFR 351.310(c). Requests should contain the following information: (1) the party's name, address, and telephone number; (2) the number of participants; and (3) a list of the issues to be discussed. Issues raised in the hearing will be limited to those raised in the case and rebuttal briefs. Any hearing, if requested, will be held 37 days after the date of publication, or the first business day thereafter, unless the Department alters the date pursuant to 19 CFR 351.310(d)(1).

The Department intends to issue the final results of this administrative review, which will include the results of its analysis of issues raised in any such comments, within 120 days of publication of these preliminary results, pursuant to section 751(a)(3)(A) of the Act.

Assessment Rates

Upon issuance of the final results, the Department will determine, and CBP shall assess, antidumping duties on all appropriate entries. The Department intends to issue assessment instructions to CBP 15 days after the date of publication of the final results of review. If these preliminary results are adopted in our final results of review, the Department shall determine, and CBP shall assess, antidumping duties on all appropriate entries.

Cash Deposit Requirements

The following cash-deposit requirements will be effective upon publication of the final results for shipments of the subject merchandise entered, or withdrawn from warehouse, for consumption on or after the publication date of the final results, as provided by section 751(a)(2)(C) of the Act: (1) the cash deposit rate for PRC exporters who received a separate rate in a prior segment of the proceeding (i.e., Nantong Chemical, Tianjin Hanchem, and Trust Chem) will continue to be the rate assigned in that segment of the proceeding; (2) for all other PRC exporters of subject merchandise which have not been found to be entitled to a separate rate (including Aesthetic Colortech, Anhui Worldbest, Cidic, Ganguink, Goldlink, Hunan Sunlogistics, Hygeia-Chem, Pudong Prime, Shanghai Rainbow, Sinocol, and Yangcheng Chemical), the cash-deposit rate will be the PRC-wide rate of 241.32 percent; (3) for all non-PRC exporters of subject merchandise, the cash-deposit rate will be the rate applicable to the PRC supplier of that exporter.

These deposit requirements shall remain in effect until publication of the final results of the next administrative review.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(1) and 777(i)(1) of the Act.

Dated: September 2, 2008.
David M. Spooner,
Assistant Secretary for Import Administration.

[FR Doc. E8-20750 Filed 9-5-08; 8:45 am]

BILLING CODE 3510-DS-S